FEDERAL MARITIME COMMISSION

[Docket No. FMC-2025-0008]

Notice of Filing of Petition and Request for Comments: Exemption From Tariff Rate Publication Requirements

AGENCY: Federal Maritime Commission.

ACTION: Notice of filing and request for comments.

SUMMARY: The Federal Maritime Commission (Commission) has received a petition from a controlled carrier requesting an exemption from the statutory requirement to provide 30 days' notice of a reduction in its tariff rates and seeks public comment.

DATES: Submit comments on or before June 9, 2025.

ADDRESSES: You may submit comments, identified by Docket No. FMC-2025-0008, by the following method:

Federal eRulemaking Portal: Your comments must be written and in English and submitted electronically through the Federal Rulemaking Portal at www.regulations.gov. To submit comments on that site, search for Docket No. FMC-2025-0008 and follow the instructions provided. If you would like to receive future information regarding this petition, you must include your contact information.

A copy of the comment must also be served on the Petitioner's counsel, Cameron W. Roberts, Roberts & Kehagiaras LLP, at cwr@tradeandcargo.com, 210 Yacht Club, Redondo Beach, CA 90802.

FOR FURTHER INFORMATION CONTACT: For questions regarding the submission of written public comments or the treatment of any confidential information, please contact David Eng, Secretary, at (202) 523-5725 or by email at secretary@fmc.gov.

SUPPLEMENTARY INFORMATION: Notice is given that the Chinese-Polish Joint Stock Shipping Company (“Chipolbrok”), has petitioned the Commission, pursuant to 46 U.S.C. 40103(a) and 46 CFR 502.94, for an exemption from 46 U.S.C. 40703 so that it may reduce its tariff rates effective upon publication. A copy of this petition, Petition No. P1-25, can be found at www.regulations.gov under Docket No. FMC-2025-0008.

To grant an exemption, the Commission must conclude that such exemption will not result in substantial reduction in competition or be detrimental to commerce. The Commission has stated that “detriment to commerce” must signify something other than “substantial reduction in competition.” ¹ In order to determine whether either prong of this standard occurs, the Commission will examine the percent of cargo and number of twenty-foot equivalent units (TEUs) moving in the controlled carrier's U.S. trades under service contracts and tariffs. The Commission will also examine whether allowing the carrier to reduce tariff rates and charges with immediate effectiveness may allow it to compete more vigorously, especially when compared to any shortage of capacity or overcapacity that may be occurring in the shipping industry as a whole.

¹ See Petition No. P7-92, Motor Vehicle Manufacturers Association of the United States, Inc. and Wallenius Lines, N.A.-Joint Application for Exemption from Certain Requirements of the Shipping Act of 1984 for Certain Limited Shipments of Passenger Vehicles, 26 S.R.R. 1269 (FMC 1994) and Docket No. 05-05, Non-Vessel-Operating Common Carrier Service Arrangements, 30 S.R.R. 763 (FMC 2005).

For the Commission to make a thorough evaluation of the exemption requested in the petition, interested parties are afforded an opportunity to participate through submission of written public comments. Comments must be received no later than the above stated date. The comments must be written and in English and submitted electronically through the Federal Rulemaking Portal at www.regulations.gov. To submit comments on that site, search for Docket No. FMC-2025-0008 and follow the instructions provided. A copy of the comment must also be served on the Petitioner's counsel, Cameron W. Roberts, Roberts & Kehagiaras LLP, at cwr@tradeandcargo.com, 210 Yacht Club, Redondo Beach, CA 90802.

The Commission will provide confidential treatment for identified confidential information to the extent allowed by law. If you would like to request confidential treatment, pursuant to 46 CFR 502.5, you must submit the following, by email, to secretary@fmc.gov:

• A transmittal letter that identifies the specific information in the comments for which protection is sought and demonstrates that the information is a trade secret or other confidential research, development, or commercial information.

• A confidential copy of your comments, consisting of the complete filing with a cover page marked “Confidential-Restricted,” and the confidential material clearly marked on each page.

• A public version of your comments with the confidential information excluded. The public version must state “Public Version—confidential materials excluded” on the cover page and on each affected page and must clearly indicate any information withheld.

Dated: May 6, 2025.
David Eng,
Secretary.

[FR Doc. 2025-08211 Filed 5-8-25; 8:45 am]

BILLING CODE 6730-02-P